PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Recording Assignments.

Form Number(s): PTO-1594 and PTO-1595.

Agency Approval Number: 0651-0027.

Type of Request: Revision of a currently approved collection.

Burden: 155,853 hours annually.

Number of Respondents: 311,704 responses per year.

Avg. Hours Per Response: The USPTO estimates that it will take the public approximately 30 minutes (0.5 hours) to gather information, prepare, and submit a request to record an assignment document related to a patent, trademark, or application.

Needs and Uses: This information collection supports the recording of assignment documents that affect and establish the transfer of ownership rights for patents, trademarks, and applications. In order to obtain all of the information necessary to record an assignment document accurately and efficiently, the USPTO has developed cover sheets for patent and trademark assignments that the public can use to submit their documents for recording. To record an assignment, the respondent must submit an appropriate cover sheet along with the assignment document. For assignments related to patents or patent applications, respondents may also prepare and submit cover sheets and supporting documents electronically using software available from the USPTO. All recorded assignment documents are available for viewing by the public, except for those documents that are sealed under secrecy orders or related to unpublished patent applications. The public uses this collection to submit assignment documents related to patents, trademarks, and applications for recording; to transfer ownership rights, title, and interest in a patent or trademark from one party to another; and to submit corrections of assignment cover sheets containing errors. The USPTO uses the information collected from the public to process and record documents related to the assignment of patents, trademarks, and applications; and to ensure that all relevant bibliographic data is entered in the associated files and the searchable public database of assignment information.

Affected Public: Individuals or households, businesses or other for-profits, not-for-profit institutions, farms, the federal government, and state, local, or tribal governments.

Frequency: On occasion for recordkeeping and reporting.

Respondent's Obligation: Required to obtain or retain benefits.

OMB Desk Officer: David Rostker, (202) 395-3897.

Copies of the above information collection proposal can be obtained by calling or writing Susan K. Brown, Records Officer, Office of Data Management, Data Administration Division, USPTO, Suite 310, 2231 Crystal Drive, Washington, DC 20231, by phone at (703) 308-7400, or by e-mail at susan.brown@uspto.gov.

Written comments and recommendations for the proposed information collection should be sent on or before May 28, 2002, to David Rostker, OMB Desk Officer, Room 10202, New Executive Office Building, 725 17th Street NW, Washington, DC 20503.

Dated: April 19, 2002.
Susan K. Brown,
Records Officer, USPTO, Office of Data Management, Data Administration Division.

[FR Doc. 02-10255 Filed 4-25-02; 8:45 am]

BILLING CODE 3510-16-P